DEPARTMENT OF THE INTERIOR

National Park Service

Burr Trail Modifications, Draft Environmental Impact Statement, Capitol Reef National Park, Utah

AGENCY: National Park Service, Department of the Interior.

ACTION: Notice of availability of the Draft Environmental Impact Statement for Burr Trail Modifications, Capitol Reef National Park.

SUMMARY: Pursuant to the National Environmental Policy Act of 1969, 42 U.S.C. 4332(C), the National Park Service announces the availability of a Draft Environmental Impact Statement (DEIS) for Burr Trail Modifications for Capitol Reef National Park, Utah.

DATES: The DEIS will remain available for public review for sixty days July 12, 2005 from the date that the Environmental Protection Agency publishes the Notice of Availability of this Draft Environmental Impact Statement. No public meetings are scheduled.

ADDRESSES: Copies of the DEIS are available from Al Hendricks, Superintendent, Capitol Reef National Park, HC 70, Box 15, Torrey, Utah 84775, (435) 425-3791. Public reading copies of the DEIS will be available for review at the following locations:

Office of the Superintendent, Capitol Reef National Park, Park Headquarters, Jct. Hwy 24 & Scenic Drive, Torrey, Utah 84775; Telephone: (435) 425-3791.

Planning and Environmental Quality, Intermountain Support Office—Denver National Park Service, 12795 W. Alameda Parkway, Lakewood, CO 80228; Telephone: (303) 969-2851.

Office of Public Affairs, National Park Service, Department of Interior, 18th and C Streets NW., Washington, DC 20240; Telephone: (202) 208-6843.

FOR FURTHER INFORMATION CONTACT: Contact Al Hendricks, Superintendent, Capitol Reef National Park, at the above address and telephone number.

SUPPLEMENTARY INFORMATION: The National Park Service has prepared this draft environmental impact statement with three cooperating agencies: the State of Utah, Garfield County, Utah, and the Federal Highway Administration. The proposed action is the product of the environmental compliance process that was needed to fulfill the May 30, 2001, settlement agreement that established a mutually agreeable procedure among the National Park Service, the State of Utah, and Garfield County, Utah to address road modifications that Garfield County would like to make to the Burr Trail.

This draft environmental impact statement evaluates four alternatives. Three of these involve road modifications that stabilize parts of the road surface using gravel base material (some with geotextile fabric), install or improve drainage facilities at creek crossings, modify the road at mile point 0.65 to accommodate two-way traffic, and install slope protection along portions of the northern bank of Sandy Creek. The fourth alternative, the No Action Alternative, describes continuation of current conditions. This was the baseline condition against which the other alternatives were compared. Environmental consequences of the actions were evaluated to determine their potential effects to air quality; geologic features and landforms; biological soil crusts and soils; vegetation; wildlife; surface water, hydrology, and floodplains; natural soundscapes; ethnographic and ethnographic landscape resources; public health and safety; visitor use and experience; socioeconomics; park operations; Garfield County road maintenance operations; and sustainability and long-term management.

Comments: If you wish to comment, you may submit your comments by any one of several methods. You may mail comments to Superintendent, Capitol Reef National Park, HC 70, Box 15, Torrey, Utah 84775. You may also comment via the Internet to care_planning@nps.gov. Please submit Internet comments as an ASCII file avoiding the use of special characters and any form of encryption. Please also include “Attn: Burr Trail DEIS” and your name and return address in your Internet message. If you do not receive a confirmation that we have received your Internet message, contact Sharon Gurr, Capitol Reef National Park, HC 70, Box 15, Torrey, Utah 84775; (435) 425-3791 extension 101. Finally, you may hand-deliver comments to Office of the Superintendent, Capitol Reef National Park, Park Headquarters, Jct. Hwy 24 & Scenic Drive, Torrey, Utah 84775. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

Dated: March 24, 2005.
Stephen P. Martin,
Director, Intermountain Region, , National Park Service.

[FR Doc. 05-9565 Filed 5-12-05; 8:45 am]

BILLING CODE 4312-DL-P